DEPARTMENT OF TRANSPORTATION

Federal Railroad Administration

[Docket Number FRA-2015-0068]

Petition for Waiver of Compliance

In accordance with part 211 of Title 49 Code of Federal Regulations (CFR), this document provides the public notice that by a document dated June 18, 2015, the Southeastern Pennsylvania Transportation Authority (SEPTA) has petitioned the Federal Railroad Administration (FRA) for a waiver of compliance from certain provisions of the Federal railroad safety regulations contained at 49 CFR 238.309(b)(2). FRA assigned the petition Docket Number FRA-2015-0068.

Title 49 CFR 238.309(b)(2) requires that brake equipment and brake cylinders of each multiple unit (MU) locomotive be cleaned, repaired, and tested at intervals of every 1,104 days if the MU locomotive is part of a fleet that is 100 percent equipped with air dryers, and has a brake system using RT-5A-style valves (among others). The RT-5A+ brake system in use on the Silverliner V MU fleet employs a microprocessor-based control system, and uses active and passive diagnostics to monitor brake performance. Currently, other air brake systems that incorporate microprocessor controls are subject to overhaul intervals of 1,840 days (see 49 CFR 238.309(b)(3) and 238.309(e)(l)). SEPTA therefore submitted an alternate proposal to increase the periodic brake equipment maintenance interval for the Silverliner V air brake system to a minimum of 1,840 days.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 23, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on October 2, 2015.
Ron Hynes,
Director, Office of Technical Oversight.

[FR Doc. 2015-25609 Filed 10-7-15; 8:45 am]

BILLING CODE 4910-06-P